DEPARTMENT OF ENERGY

Federal Energy Regulatory Commission

[Docket No. ER03-300-001]

Pacific Gas and Electric Company; Notice of Filing

February 13, 2003.

Take notice that on February 12, 2003, Pacific Gas and Electric Company (PG&E) filed an errata to replace and correct tariff sheets to its December 20, 2002 filing of Transmission Owner Tariff (TO Tariff) rate for the Transmission Revenue Balancing Account Adjustment, the Reliability Services rate, and the Transmission Access Charge Balancing Account Adjustment also set forth in its TO Tariff. The Errata corrects certain word processing errors in Appendices I and II of the filing. None of the replacement pages contains a change in rates as originally proposed in the December 20, 2002 filing.

PG&E states that copies of this filing have been served upon the California Independent System Operator (ISO), Scheduling Coordinators registered with the ISO, Southern California Edison Company, San Diego Gas &Electric Company, the California Public Utilities Commission and other parties to the official service lists in this docket and recent TO Tariff rate cases, FERC Docket Nos. ER00-2360-000 and ER01-66-000.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number field to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: February 24, 2003.

Magalie R. Salas,
Secretary.

[FR Doc. 03-4116 Filed 2-19-03; 8:45 am]

BILLING CODE 6717-01-P